DEPARTMENT OF HEALTH AND HUMAN SERVICES

Centers for Medicare & Medicaid Services

[CMS-1636-N]

Medicare Program: Notice of Four Membership Appointments to the Advisory Panel on Hospital Outpatient Payment

AGENCY: Centers for Medicare & Medicaid Services (CMS), Department of Health and Human Services (HHS).

ACTION: Notice.

SUMMARY: This notice announces four new membership appointments to the Advisory Panel on Hospital Outpatient Payment (the Panel). The four new appointments to the Panel will each serve a four-year period. The new members have terms that began on January 14, 2015 and continue through January 31, 2019. The purpose of the Panel is to advise the Secretary of the Department of Health and Human Services and the Administrator of the Centers for Medicare & Medicaid Services concerning the clinical integrity of the Ambulatory Payment Classification groups and their relative payment weights. The Panel also addresses and makes recommendations regarding supervision of hospital outpatient services. The advice provided by the Panel will be considered as we prepare the annual updates for the hospital outpatient prospective payment system.

DATES: March 30, 2015.

ADDRESSES: Web site: For additional information on the Panel meeting dates, agenda topics, copy of the charter, and updates to the Panel's activities, we refer readers to our Web site at the following address: https://www.cms.gov/Regulations-and-Guidance/Guidance/FACA/AdvisoryPanelonAmbulatoryPaymentClassificationGroups.html.

FOR FURTHER INFORMATION CONTACT: Designated Federal Official (DFO): Carol Schwartz, DFO, 7500 Security Boulevard, Mail Stop: C4-04-25, Woodlawn, MD 21244-1850. Phone: (410) 786-3985. Email: APCPanel@cms.hhs.gov.

SUPPLEMENTARY INFORMATION:

I. Background

The Secretary of the Department of Health and Human Services (the Secretary) is required by section 1833(t)(9)(A) of the Social Security Act (the Act) (42 U.S.C. 1395l(t)(9)(A)) and is allowed by section 222 of the Public Health Service Act (PHS Act) (42 U.S.C. 217(a)) to consult with an expert outside advisory panel on the clinical integrity of the Ambulatory Payment Classification groups and relative payment weights, which are major elements of the Medicare Hospital Outpatient Prospective Payment System (OPPS), and the appropriate supervision level for hospital outpatient services. The Panel is governed by the provisions of the Federal Advisory Committee Act (FACA) (Pub. L. 92-463), as amended (5 U.S.C. Appendix 2), which sets forth standards for the formation and use of advisory panels. The Panel Charter provides that the Panel shall meet up to three times annually. We consider the technical advice provided by the Panel as we prepare the proposed and final rules to update the OPPS for the following calendar year.

The Panel shall consist of a chair and up to 15 members who are full-time employees of hospitals, hospital systems, or other Medicare providers. The Secretary or a designee selects the Panel membership based upon either self-nominations or nominations submitted by Medicare providers and other interested organizations. New appointments are made in a manner that ensures a balanced membership under the FACA guidelines.

The Panel presently consists of the following members and a Chair.

• Edith Hambrick, M.D., J.D., Chair, CMS Medical Officer

• Karen Borman, M.D., F.A.C.S.

• Jim Nelson, M.B.A., C.P.A., F.H.F.M.A.

• Leah Osbahr, M.A., M.P.H.

• Jacqueline Phillips

• Johnathan Pregler, M.D.

• Traci Rabine

• Michael Rabovsky, M.D.

• Wendy Resnick, F.H.F.M.A.

• Marianna V. Spanaki-Varelas, M.D., Ph.D., M.B.A.

• Gale Walker

• Kris Zimmer

II. Provisions of the Notice

We published a notice in the Federal Register on September 23, 2014, entitled “Medicare Program; Solicitation of Nominations to the Advisory Panel on Hospital Outpatient Payment (79 FR 56808). The notice solicited nominations for up to four new members to fill the vacancies on the Panel beginning September 30, 2014. As a result of that notice, we are announcing four new members to the Panel. The Panel currently consists of 11 members. The four new Panel members appointments are for four-year terms beginning on January 14, 2015.

New Appointments to the Panel

The four new members of the Panel with terms beginning on January 14, 2015 and continuing through January 31, 2019 are as follows:

• Dawn L. Francis, M.D.

• Ruth Lande

• Michael K. Schroyer

• Norman B. Thomson III, M.D.

III. Collection of Information Requirements

This document does not impose information collection requirements, that is, reporting, recordkeeping or third-party disclosure requirements. Consequently, there is no need for review by the Office of Management and Budget under the authority of the Paperwork Reduction Act of 1995 (44 U.S.C. 35).

Dated: February 18, 2015.
Marilyn Tavenner,
Administrator, Centers for Medicare & Medicaid Services.

[FR Doc. 2015-04175 Filed 2-26-15; 8:45 am]

BILLING CODE 4120-01-P